DEPARTMENT OF AGRICULTURE

Submission for OMB Review; Comment Request

September 25, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food Safety and Inspection Service

Title: Egg Product Industry Survey.

OMB Control Number: 0583-New.

Summary of Collection: The Food Safety and Inspection Service (FSIS) has been delegated the authority to exercise the functions of the Secretary as provided in the Egg Products Inspection Act (EPIA) (21 U.S.C. 1031-1056). This statue mandates that FSIS protect the public by ensuring that egg products are safe, wholesome, unadulterated, and properly labeled and packaged. To assist FSIS in meeting its strategic goal to protect public health by significantly reducing the prevalence of foodborne hazards from egg products, the agency requires accurate and up-to-date information about industry's use of food safety practices and technologies. FSIS will use a survey to track trends and adoption rates of practices and technologies. In addition, FSIS will address issues currently facing FSIS and the egg products processing industry.

Need and Use of the Information: The results of the egg products industry survey will provide reliable and valid information regarding food safety practices in FSIS-regulated plants that can be used to address a broad variety of the agency's analyses needs. The survey will also provide information needed for analyses of public health risks that are not available from FSIS inspectors and other data sources.

Description of Respondents: Business or other for-profit.

Number of Respondents: 80.

Frequency of Responses: Reporting: Annually.

Total Burden Hours: 62.

Food Safety and Inspection Service

Title: Accredited Laboratory Program Annual Contact Update Form.

OMB Control Number: 0583-New.

Summary of Collection: The Food Safety and Inspection Service (FSIS) has been delegated the authority to exercise the functions of the Secretary as provided in the Federal Meat Inspection Act (FMIA) (21 U.S.C. 601 et. seq.), the Poultry Products Inspection Act (PPIA) (21 U.S.C. 451, et. seq.), and the Egg Products Inspection Act (EPIA) (21 U.S.C. 1031). These statues mandate that FSIS protect the public by verifying that meat and poultry products are safe, wholesome, not adulterated, and properly labeled and packaged.

Need and Use of the Information: FSIS will collect information using the Annual Contact Update form to maintain necessary information for responsible connected personnel at the laboratories. The form will also inform the Agency if a laboratory, or responsibly connected person or entity, has been charged, indicted, or convicted or any crime.

Description of Respondents: Business or other for-profit.

Number of Respondents: 60.

Frequency of Responses: Reporting: Annually.

Total Burden Hours: 15.

Ruth Brown,
Departmental Information Collection Clearance Officer.

[FR Doc. 2013-23869 Filed 9-30-13; 8:45 am]

BILLING CODE 3410-DM-P